DEPARTMENT OF HOMELAND SECURITY

Coast Guard

33 CFR Part 100

[Docket No. USCG-2010-0443]

RIN 1625-AA00

Safety Zone, Lights on the River Fireworks Display, Delaware River, New Hope, PA

AGENCY: Coast Guard, DHS.

ACTION: Temporary final rule.

SUMMARY: The Coast Guard is establishing a temporary safety zone on the Delaware River in New Hope, PA. The safety zone will restrict vessel traffic on the Delaware River from operating within 400 yards of a fireworks barge located at 40°21′49″ N./074°56′54″ W. The safety zone will protect life and property while preventing vessel traffic from navigating on the Delaware River near the Bridge Street Bridge and for 800 feet downriver of the bridge in New Hope, PA.

DATES: This rule is effective from June 15, 2010 through July 30, 2010. This rule may be enforced with actual notice starting on the signature date.

ADDRESSES: Documents indicated in this preamble as being available in the docket are part of docket USCG-2010-0443 and are available online by going to http://www.regulations.gov, inserting USCG-2010-0443 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Ensign Gary George, Chief Waterways Management, Sector Delaware Bay, Coast Guard; telephone 215-271-4851, e-mail gary.e.george@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule. Delaying action on this rulemaking to allow for a comment period would be contrary to the public interest in allowing this event to go on as scheduled. Furthermore, the location of the event and short duration (one hour once each week, in the evening) mean that the chance of significant impact on or interest by the boating public is small.

Under 5 U.S.C. 553(d)(3), the Coast Guard further finds that good cause exists for making this rule effective less than 30 days after publication in the Federal Register for the same reason as above. Delaying the establishment of the safety zone could result in mariners approaching the fireworks barge, creating a hazardous scenario with potential for loss of life and property.

Basis and Purpose

The New Hope Chamber of Commerce has contracted Garden State Fireworks Inc. for a fireworks display to reoccur once a week on Friday evenings from May 21, 2010 to July 30, 2010. The establishment of this safety zone will prevent vessels from entering the fireworks fallout area, located on the Delaware River at 40°21′49″ N./074°567′54″ W. This safety zone will help protect both life and property on the Delaware River.

Discussion of Rule

The Coast Guard is establishing a temporary safety zone which will be enforced May 21, 2010 from 8 p.m. to 9 p.m. and then every Friday from May 28, 2010 through July 30, 2010 from 9 p.m. until 10 p.m.

Except for persons or vessels authorized by the Captain of the Port, no person or vessel may enter or remain in the regulated area during the enforcement period. The safety zone is necessary to protect life and property operating on the navigable waterways of the Delaware River in New Hope, PA.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. Although this regulation restricts vessel traffic on the navigable waters of the Delaware River, the effect of this regulation will not be significant due to the limited duration that the safety zone will be in effect. While the safety zone will be reoccurring on a weekly basis, the enforcement window lasts for only an hour in an area that is bordered downriver by rapids, minimizing local traffic that might pass though the affected area.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit in a portion of the Delaware River, New Hope, PA Fridays from May 28, 2010 through July 30, 2010 from 9 p.m. until 10 p.m.

This safety zone will not have a significant economic impact on a substantial number of small entities for the following reasons. This rule will be enforced for a maximum duration of one hour. Vessel traffic may pass through the affected area on the Delaware River during time periods other than the time needed to enforce the safety zone in during the “Lights on the River” fireworks shows.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(h), of the Instruction. This rule involves a limited-duration recurring safety zone intended to protect life and property on the navigable waterways of the Delaware River. An environmental analysis checklist and a categorical exclusion determination are available in the docket where indicated under ADDRESSES.

List of Subjects in 33 CFR Part 100

Harbors, Marine Safety, Navigation (water), Reporting and recordkeeping requirements, Security measures, Waterways.

For the reasons discussed in the preamble, the Coast Guard amends 33 CFR part 100 as follows:

PART 100-SAFETY OF LIFE ON NAVIGABLE WATERWAYS

1. The authority citation for part 100 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat.2064; Department of Homeland Security Delegation No. 0170.1.

2. Add temporary § 165.T05-0443, to read as follows:

§ 100.T05-0443 Safety Zone; Fireworks Display, Delaware River, New Hope, PA.

(a) Location. The safety zone will restrict vessel traffic on the Delaware River from operating within 400 yards of a fireworks barge located at 40°21′49″ N./074°56′54″ W. This point is described as a point existing 400 ft downriver of the Bridge St. Bridge located in New Hope, PA, and 400 ft east of the shoreline of New Hope, PA.

(b) Regulations. (1) No person or vessel may enter or navigate within this safety zone unless authorized to do so by the Captain of the Port or a designated representative. Any person or vessel authorized to enter the safety zone must operate in strict conformance with any directions given by the Captain of the Port or a designated representative and leave the safety zone immediately if so ordered.

(2) All Coast Guard assets enforcing this safety zone can be contacted on VHF marine band radio, channels 13 and 16. The Captain of the Port can be contacted at (215) 271-4807.

(3) The Captain of the Port will notify the public of any changes in the status of this safety zone by Marine Safety Radio Broadcast on VHF-FM marine band radio, channel 22 (157.1 MHZ).

(c) Definition. “Designated representative” means the Commander of Sector Delaware Bay or any Coast Guard Commissioned, Warrant or Petty Officer who has been authorized by the Captain of the Port to act on her behalf.

(d) Enforcement period. This rule will be enforced every Friday from May 28, 2010 through July 30, 2010 from 9 p.m. until 10 p.m.

Dated: May 21, 2010.
R.T. Gatlin,
Captain, U.S. Coast Guard, Acting Captain of the Port Delaware Bay.

[FR Doc. 2010-14297 Filed 6-14-10; 8:45 am]

BILLING CODE 9110-04-P